OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Ms. Delores Everett, Center for Leadership and Executive Resources Policy, Division for Strategic Human Resources Policy, 202-606-1050.

SUPPLEMENTARY INFORMATION: Appearing in the listing below are the individual authorities established under Schedule C between April 1, 2004 and April 30, 2004. Future notices will be published on the fourth Tuesday of each month, or as soon as possible thereafter. A consolidated listing of all authorities as of June 30 is published each year.

Schedule A

No Schedule A appointments for April 2004.

Schedule B

No Schedule B appointments for April 2004.

Schedule C

The following Schedule C appointments were approved for April 2004:

Section 213.3303 Executive Office of the President

Office of Management and Budget

BOGS60015 Communications Writer to the Associate Director Strategic Planning and Communications. Effective April 5, 2004.

BOGS60020 Special Assistant to the Administrator, Office of Federal Procurement Policy. Effective April 9, 2004.

Office of the United States Trade Representative

TNGS00071 Deputy Assistant U.S. Trade Representative for Congressional Affairs to the Chief of Staff. Effective April 13, 2004.

Official Residence of the Vice President

RVGS00003 Personal Aide to the Second Lady and Deputy Social Secretary to the Assistant to the Vice President for Operations. Effective April 15, 2004.

Section 213.3304 Department of State

DSGS60760 Public Affairs Specialist to the Assistant Secretary for International Organizational Affairs. Effective April 6, 2004.

DSGS60761 Special Advisor to the Assistant Secretary for International Organizational Affairs. Effective April 6, 2004.

DSGS60762 Special Assistant to the Assistant Secretary for Public Affairs. Effective April 7, 2004.

DSGS60763 Senior Advisor to the Assistant Secretary for Western Hemispheric Affairs. Effective April 8, 2004.

DSGS60765 Public Affairs Specialist to the Assistant Secretary for Public Affairs. Effective April 8, 2004.

DSGS60767 Special Assistant to the Assistant Secretary, Bureau of Politico-Military Affairs. Effective April 19, 2004.

DSGS60757 Foreign Affairs Officer to the Assistant Secretary. Effective April 22, 2004.

Section 213.3306 Department of Defense

DDGS02518 Chief of Staff to the Inspector General. Effective April 13, 2004.

DDGS16808 Speechwriter to the Principal Deputy Assistant Secretary of Defense for Public Affairs. Effective April 13, 2004.

DDGS16800 Researcher to the Special Assistant for Speechwriting. Effective April 15, 2004.

DDGS16801 Defense Fellow to the Special Assistant to the Secretary of Defense for White House Liaison. Effective April 15, 2004.

DDGS16805 Special Assistant to the Principal Deputy Under Secretary of Defense (Comptroller) and Deputy Under Secretary of Defense (Management Reform). Effective April 15, 2004.

DDGS16815 Defense Fellow to the Special Assistant to the Secretary of Defense for White House Liaison. Effective April 15, 2004.

DDGS16813 Staff Assistant to the Deputy Assistant Secretary of Defense (Eurasia). Effective April 22, 2004.

Section 213.3307 Department of the Army

DWGS00078 Special Assistant to the Deputy Assistant Secretary of the Army for Privatization and Partnerships. Effective April 20, 2004.

Section 213.3310 Department of Justice

DJGS00414 Counsel to the Director, Executive Office for United States Attorneys. Effective April 01, 2004.

DJGS00384 Assistant to the Attorney General for Scheduling to the Director of Scheduling and Advance. Effective April 06, 2004.

DJGS60222 Senior Advisor for Congressional and Legislative Affairs to the Director of Communications. Effective April 08, 2004.

DJGS00304 Associate Director to the Director, Office of Intergovernmental and Public Liaison. Effective April 09, 2004.

DJGS00176 Public Affairs Specialist to the Director, Office of Public Affairs. Effective April 14, 2004.

DJGS00193 Senior Counsel to the Assistant Attorney General (Legal Policy). Effective April 27, 2004.

DJGS00266 Press Assistant to the Director, Office of Public Affairs. Effective April 27, 2004.

DJGS00280 Special Assistant to the Assistant Attorney General (Legal Policy). Effective April 28, 2004.

Section 213.3311 Department of Homeland Security

DMGS00187 Director of Legislative Affairs for Border and Transportation Security to the Assistant Secretary for Legislative Affairs. Effective April 1, 2004.

DMGS00211 Staff Assistant to the Deputy Chief of Staff for Operations. Effective April 9, 2004.

DMGS00219 Executive Assistant to the Special Assistant to the Secretary (Private Sector). Effective April 9, 2004.

DMGS00223 Scheduler to the Secretary to the Deputy Chief of Staff for Operations. Effective April 9, 2004.

DMGS00220 Senior Advance Representative to the Director of Scheduling and Advance. Effective April 13, 2004.

DMGS00221 Public Outreach Specialist to the Director of Special Projects. Effective April 13, 2004.

DMGS00226 Director of Communications for Emergency Preparedness and Response to the Chief of Staff. Effective April 22, 2004.

DMGS00228 Press Secretary for Emergency Preparedness and Response/Federal Emergency Management Agency to the Chief of Staff. Effective April 27, 2004.

DMGS00229 Director of International Affairs, Emergency Preparedness and Response to the Chief of Staff. Effective April 27, 2004.

DMGS00224 Policy Assistant for Emergency Preparedness and Response/Federal Emergency Management Agency to the Chief of Staff. Effective April 29, 2004.

DMGS00230 Press Assistant for Emergency Preparedness and Response to the Director of Communications for Emergency Preparedness and Response. Effective April 29, 2004.

DMGS00227 Confidential Assistant to the Chief of Staff and Senior Policy Advisor. Effective April 30, 2004.

Section 213.3312 Department of the Interior

DIGS61016 Special Assistant to the Executive Director, Take Pride-In-America. Effective April 08, 2004.

DIGS61015 Special Assistant to the Secretary to the Chief of Staff. Effective April 22, 2004.

Section 213.3313 Department of Agriculture

DAGS00701 Deputy Director, Office of Intergovernmental Affairs to the Director, Intergovernmental Affairs. Effective April 1, 2004.

DAGS00706 Confidential Assistant to the Deputy Assistant Secretary for Congressional Relations. Effective April 5, 2004.

DAGS00166 Confidential Assistant to the Secretary. Effective April 13, 2004.

DAGS00704 Confidential Assistant to the Assistant Secretary for Congressional Relations. Effective April 22, 2004.

DAGS00716 Special Assistant to the Administrator, Animal and Plant Health Inspection Service. Effective April 28, 2004.

DAGS00707 Special Assistant to the Secretary. Effective April 29, 2004.

DAGS00708 Special Assistant to the Under Secretary for Rural Development. Effective April 29, 2004.

Section 213.3314 Department of Commerce

DCGS17901 Public Affairs Specialist to the Director of Public Affairs. Effective April 15, 2004.

DCGS60350 Deputy Director to the Director, Office of Business Liaison. Effective April 16, 2004.

DCGS00553 Confidential Assistant to the Under Secretary for Export Administration. Effective April 26, 2004.

DCGS00641 Senior Policy Advisor to the Assistant to the Secretary and Director, Office of Policy and Strategic Planning. Effective April 29, 2004.

Section 213.3315 Department of Labor

DLGS60224 Special Assistant to the Assistant Secretary for Mine Safety and Health. Effective April 9, 2004.

DLGS60181 Special Assistant to the Assistant Secretary for Public Affairs. Effective April 13, 2004.

DLGS60160 Deputy Counselor to the Secretary of Labor. Effective April 22, 2004.

DLGS60197 Legislative Assistant to the Assistant Secretary for Congressional and Intergovernmental Affairs. Effective April 22, 2004.

DLGS60137 Special Assistant to the Assistant Secretary for Public Affairs. Effective April 26, 2004.

DLGS60081 Intergovernmental Assistant to the Assistant Secretary for Congressional and Intergovernmental Affairs. Effective April 27, 2004.

DLGS60260 Special Assistant to the Director of Public Liaison. Effective April 27, 2004.

DLGS60154 Senior Legislative Officer to the Assistant Secretary for Congressional and Intergovernmental Affairs. Effective April 30, 2004.

Section 213.3316 Department of Health and Human Services

DHGS60052 Chief Acquisitions Officer to the Chief of Staff. Effective April 30, 2004.

DHGS60204 Special Assistant to the Administrator for Centers for Medicare and Medicaid Services. Effective April 30, 2004.

Section 213.3317 Department of Education

DBGS00317 Confidential Assistant to the Deputy Assistant Secretary for Regional Affairs. Effective April 1, 2004.

DBGS60064 Secretary's Regional Representative, Region II to the Deputy Assistant Secretary for Regional Services. Effective April 2, 2004.

DBGS00324 Confidential Assistant to the Senior Advisor to the Secretary. Effective April 7, 2004.

DBGS00323 Confidential Assistant to the Deputy Under Secretary for Innovation and Improvement. Effective April 9, 2004.

DBGS60092 Secretary's Regional Representative, Region V to the Deputy Assistant Secretary for Regional Services. Effective April 13, 2004.

DBGS00322 Confidential Assistant to the Deputy Secretary of Education. Effective April 15, 2004.

DBGS00325 Press Secretary to the Director Office of Public Affairs (Communications Director). Effective April 16, 2004.

DBGS00326 Special Assistant to the Senior Advisor to the Secretary. Effective April 27, 2004.

Section 213.3330 Securities and Exchange Commission

SEOT60034 Public Affairs Specialist to the Director of Public Affairs. Effective April 27, 2004.

Section 213.3331 Department of Energy

DEGS00404 Senior Policy Advisor to the Associate Deputy Secretary of Energy. Effective April 1, 2004.

DEGS00408 Director, Office of Communications and Outreach to the Principal Deputy Assistant Secretary. Effective April 5, 2004.

DEGS00410 Special Assistant to the Director, Public Affairs. Effective April 19, 2004.

Section 213.3332 Small Business Administration

SBGS60011 Deputy Associate Administrator to the Associate Administrator for Communications/Public Liaison. Effective April 16, 2004.

SBGS60112 Special Assistant to the Deputy Administrator. Effective April 16, 2004.

Section 213.3384 Department of Housing and Urban Development

DUGS60366 Deputy Assistant Secretary for Regulatory Affairs and Manufactured Houses to the Assistant Secretary for Housing-Federal Housing Commissioner. Effective April 7, 2004.

DUGS60489 Special Assistant to the Assistant Secretary for Public and Indian Housing. Effective April 9, 2004.

DUGS60195 Staff Assistant to the Deputy Assistant Secretary for Economic Affairs. Effective April 15, 2004.

DUGS60387 Scheduling Coordinator to the Director of Executive Scheduling and Operations. Effective April 15, 2004.

DUGS60260 Staff Assistant to the Deputy Assistant Secretary for Public Housing and Voucher Programs. Effective April 19, 2004.

Section 213.3391 Office of Personnel Management

PMGS00047 Special Assistant to the Deputy Director. Effective April 1, 2004.

Section 213.3394 Department of Transportation

DTGS60069 Director, Office of Communications and Senior Policy Advisor to the Administrator. Effective April 1, 2004.

DTGS60368 Special Assistant to the Administrator for Intergovernmental Affairs. Effective April 1, 2004.

DTGS60357 Special Assistant for Scheduling and Advance to the Director for Scheduling and Advance. Effective April 19, 2004.

DTGS60147 Special Assistant to the Director to the Assistant to the Secretary and Director of Public Affairs. Effective April 26, 2004.

DTGS60239 Director, Office of Congressional and Public Affairs to the Administrator. Effective April 26, 2004.

DTGS60258 Associate Director for Governmental Affairs to the Assistant Secretary for Governmental Affairs. Effective April 26, 2004.

DTGS60355 Director, Drug Enforcement and Program Compliance to the Chief of Staff. Effective April 26, 2004.

Section 213.3397 Federal Housing Finance Board

FBOT60009 Counsel to the Board Director. Effective April 15, 2004.

Authority: 5 U.S.C. 3301 and 3302; E.O. 10577, 3 CFR 1954-1958 Comp., P.218.

Kay Coles James,
Director, Office of Personnel Management.

[FR Doc. 04-12258 Filed 5-28-04; 8:45 am]

BILLING CODE 6325-39-P